DEPARTMENT OF HEALTH AND HUMAN SERVICES

Indian Health Service

List of Recipients of Indian Health Scholarships Under the Indian Health Scholarship Program

The regulations governing Indian Health Care Improvement Act Programs (Pub. L. 94-437) provide at 42 CFR 136.334 that the Indian Health Service shall publish annually in the Federal Register a list of recipients of Indian Health Scholarships, including the name of each recipient, school and Tribal affiliation, if applicable. These scholarships were awarded under the authority of Sections 103 and 104 of the Indian Health Care Improvement Act, 25 U.S.C. 1613-1613a, as amended by the Indian Health Care Amendments of 1988, Pub. L. 100-713.

The following is a list of Indian Health Scholarship Recipients funded under Sections 103 and 104 for Fiscal Year 2005:

Abeita, Steven John, University of New Mexico, Pueblo of Isleta, New Mexico

Adams Moses, Cynthia Regina, Langston University, Musogee (Creek) Nation, Oklahoma

Adams, Melissa Lynn, Rosalind Franklin University, Cherokee Nation, Oklahoma

Alcorn, Winter Dawn, Rogers State College, Cherokee Nation, Oklahoma

Allen, Bryan Zachary, Southwestern Oklahoma State University, Choctaw Nation of Oklahoma

Allery, Rhea Neachet, University of North Dakota, Turtle Mountain Band of Chippewa Indians of North Dakota

Anderson, Debra Jean, College of St. Scholastica, White Earth Band

Arredondo, Michael Howard, University of Minnesota, Eastern Shawnee Tribe of Oklahoma

Arviso, Kellie Lynn, University of New Mexico, Navajo Nation, Arizona, New Mexico & Utah

Ashley, Natalie Lynn, Arizona State University, Navajo Nation, Arizona, New Mexico & Utah

Augare-Deal, Raek, University of Kansas, Blackfeet Tribe of the Blackfeet Indian Reservation of Montana

Babbitt, Jaime Lynn, Indiana University, Navajo Nation, Arizona, New Mexico & Utah

Baker, Allison Marie, University of North Dakota, Three Affiliated Tribes of the Fort Berthold Reservation, North Dakota

Baker, Jennifer Lee, Oklahoma State University, Cherokee Nation, Oklahoma

Baker, Valerie, University of New Mexico, Navajo Nation, Arizona, New Mexico & Utah

Banteah, Melinda Erika, University of New Mexico, Zuni Tribe of the Zuni Reservation, New Mexico

Beals, Bryan James, University of North Dakota, Muscogee (Creek) Nation, Oklahoma

Beaver, Aaron Don, University of Oklahoma, Choctaw Nation of Oklahoma

Beaver, Allen Don, University of Oklahoma, Choctaw Nation of Oklahoma

Becenti, Elton, New Mexico State University, Navajo Nation, Arizona, New Mexico & Utah

Becker, Tischa Lee, University of New Mexico, Cherokee Nation, Oklahoma

Beetso, Allyson Nicole, Northern Arizona University, Navajo Nation, Arizona, New Mexico & Utah

Begay, Melanie, University of New Mexico, Navajo Nation, Arizona, New Mexico & Utah

Begay, Tashina Nanabah Litanya, University of Portland, Navajo Nation, Arizona, New Mexico & Utah

Begay, Velma Mae, University of New Mexico, Navajo Nation, Arizona, New Mexico & Utah

Begay, Amelia June, University of New Mexico, Navajo Nation, Arizona, New Mexico & Utah

Begay, Julianna, University of New Mexico, Navajo Nation, Arizona, New Mexico & Utah

Bekis, Olin Jimmie, Oberlin College, Navajo Nation, Arizona, New Mexico & Utah

Bell, Lauren Beth, University of Oklahoma, Cherokee Nation, Oklahoma

Ben, Lynndella, Arizona State University, Navajo Nation, Arizona, New Mexico & Utah

Benally, Gerald Dean, San Juan Community College, Navajo Nation, Arizona, New Mexico & Utah

Benally, Jolene, Northern Arizona University, Navajo Nation, Arizona, New Mexico & Utah

Berg, Emily Wauneka, Fort Lewis College, Navajo Nation, Arizona, New Mexico & Utah

Bernard, Kenneth Richard Lee, Yale University, Turtle Mountain Band of Chippewa Indians of North Dakota

Big Hair, Andrea Rochelle, Montana State University, Crow Tribe of Montana

Big Leggins, Sonya Irene, Montana State University, Assiniboine & Sioux Tribes of the Fort Peck Indian Reservation, Montana

Bighorse, Amanda Nicole, Northeastern State University, Cherokee Nation, Oklahoma

Bingham, Zachary Scott, University of New Mexico, Cherokee Nation, Oklahoma

Bissonette, Melvina Deneal, University of New Mexico, Oglala Sioux Tribe of the Pine Ridge Reservation, South Dakota

Black, Deborah Helen Pierce, Johns Hopkins University, Sisseton-Wahpeton Sioux Tribe of the Lake Traverse Reservation, South Dakota

Blackhorse, Amanda Leeh, University of Kansas, Navajo Nation, Arizona, New Mexico & Utah

Blankenship, Lacey Kay, Southwestern Oklahoma State University, Cherokee Nation, Oklahoma

Blevins, Regina Kay, North Dakota State University, Choctaw Nation of Oklahoma

Blindman, Charlene Sue, Arizona State University, Navajo Nation, Arizona, New Mexico & Utah

Boatwright, Melinda Lea, University of Oklahoma, Choctaw Nation of Oklahoma

Bolton Baldwin, Marjorie Elsie, University of Alaska, Native Village of Kotzebue

Bost, Dekoda Kole, University of Central Oklahoma, Choctaw Nation of Oklahoma

Bosquet, Andrea Nicole, Northeastern State University, Cherokee Nation, Oklahoma

Bradfield, Lavone Glema, Emory University, Standing Rock Sioux Tribe of North & South Dakota

Branham-Williams, Jamie Kathleen, University of Iowa, Cherokee Nation, Oklahoma

Bressman, Rebecca Rae, Portland State University, Citizen Potawatomi Nation, Oklahoma

Brewster, Sarah Kate, University of Tulsa, Muscogee (Creek) Nation, Oklahoma

Briggs, Misty Elaine, University of Oklahoma, Cherokee Nation, Oklahoma

Bright, Crystal Deann, Oklahoma Wesleyan University, Cherokee Nation, Oklahoma

Brockelman, Cassandra May, Southwestern Oklahoma State University, Seminole Nation of Oklahoma

Brooks, Seth Russell, University of Oklahoma, Choctaw Nation of Oklahoma

Brown, Cerissa Kalani, Oklahoma State University, Cherokee Nation, Oklahoma

Brown, Christinia Ann, University of North Dakota, Paiute-Shoshone Indians of the Bishop Community of the Bishop Colony, California

Brown, Lindsay Renee, Rogers State College, Sac & Fox Nation, Oklahoma

Buckner, Jennifer Lynn, Arizona State University, Cheyenne-Arapaho Tribes of Oklahoma

Buettner, Brian Edwin, University of Oklahoma, Citizen Potawatomi Nation, Oklahoma

Burr-Selle, Kandi Kay, University of North Dakota, Three Affiliated Tribes of the Fort Berthold Reservation, North Dakota

Bushyhead, Ian Dow, Oklahoma State University, Cherokee Nation, Oklahoma

Byrd, Alpheus Lee, Carl Albert State College, Cherokee Nation, Oklahoma

Cain, Melanie Joy, Oklahoma State University, Pueblo of Santa Clara, New Mexico

Calhoun, Matthew East, University of Alaska, Takotna Village

Carey, Amanda Kay, Arizona School of Health Sciences, Cherokee Nation, Oklahoma

Carey, Candice Joy, Northeastern State University, Cherokee Nation, Oklahoma

Carter, Nani Danielle, University of Oklahoma, Cherokee Nation, Oklahoma

Casillas, Denise Myra, University of South Dakota, Cheyenne River Sioux Tribe of the Cheyenne River Reservation, South Dakota

Cavanaugh, Casey Lynne, Idaho State University, Shoshone-Paiute Tribes of the Duck Valley Reservation, Nevada

Cavanaugh, Erica Rose, University of North Dakota, Spirit Lake Tribe, North Dakota

Chapman, Ashley Elizabeth, Nova Southeastern University, Mohegan Indian Tribe of Connecticut

Charley, Cherilynn Lea, San Juan Community College, Navajo Nation, Arizona, New Mexico & Utah

Chihuly, Theresa Catherine, Johns Hopkins University, Ninilchik Village

Clark, Ernestine, University of New Mexico, Navajo Nation, Arizona, New Mexico & Utah

Clark, Jacqueline Renee, East Central University, Chikasaw Nation, Oklahoma

Clark, Kari Rose, Arizona State University, Navajo Nation, Arizona, New Mexico & Utah

Clarke, Alberta D, University of Phoenix, Navajo Nation, Arizona, New Mexico & Utah

Clarkson, Rachel Beth, Oklahoma State University, Cherokee Nation, Oklahoma

Clauschee, Susan Francine, University of Arizona, Navajo Nation, Arizona, New Mexico & Utah

Clement, Brenda Lea, University of South Dakota, Cheyenne River Sioux Tribe of the Cheyenne River Reservation, South Dakota

Clemons, Danielle Nicole, Northern Arizona University, Pueblo of Acoma, New Mexico

Collins, John Tate, University of Oklahoma, Cherokee Nation, Oklahoma

Comb, Savanah, Dine College, Navajo Nation, Arizona, New Mexico & Utah

Condon, Travis Wayne, North Dakota State University, Standing Rock Sioux Tribe of North & South Dakota

Constanine, Angie Casina, TVI Community College, Native Village of Tyonek

Cook, Brandon Christopher, Oklahoma State University, Seminole Nation of Oklahoma

Cook, Elizabeth Jane, East Central University, Choctaw Nation of Oklahoma

Cook, Lyle C., University of California, Cheyenne River Sioux Tribe of the Cheyenne River Reservation, South Dakota

Cooledge, Debroah Lena, University of Alaska, Native Village of Aleknagik

Coon, Teresa Lynne, University of Oklahoma, Seminole Nation of Oklahoma

Cope, Robin Marie, University of Washington, Alaska Native

Corbin, Christopher Neal, University of Oklahoma, Cherokee Nation, Oklahoma

Corcoran, Lauren Rae, University of Montana, Chippewa Cree Indians of the Rocky Boy's Reservation, Montana

Couch, Ashley Ariel, Northeastern State University, Cherokee Nation, Oklahoma

Coulter, Daniel Lee, Creighton University, Citizen Potawatomi Nation, Oklahoma

Crain, Stacy Rae, North Dakota State University, Turtle Mountain Band of Chippewa Indians of North Dakota

Crawley, Misti Kay, Oklahoma State University, Choctaw Nation of Oklahoma

Cribbs, Carolyn Suze, Sonoma State University, Cherokee Nation, Oklahoma

Cullen Carroll, Shanna Marie, Alliant International University, Osage Tribe, Oklahoma

Curry, Traci Renee, Murray State College, Chickasaw Nation, Oklahoma

Damon, Dezbaa Altaalkii, Arizona School of Dentistry, Navajo Nation, Arizona, New Mexico & Utah

Damon, Mallary Jenna, Geneva College, Navajo Nation, Arizona, New Mexico & Utah

Davis, Abby Sue, University of Alaska, Turtle Mountain Band of Chippewa Indians of North Dakota

Davis, Brandy Darlene, Western Carolina University, Eastern Band of Cherokee Indians of North Carolina

Davis, Krissie Lee, University of North Dakota, Turtle Mountain Band of Chippewa Indians of North Dakota

Davis, Kristina Faye, University of North Dakota, Turtle Mountain Band of Chippewa Indians of North Dakota

Davis, Kylie Louise, University of North Dakota, Turtle Mountain Band of Chippewa Indians of North Dakota

Davis-Counts, Heather Rae, University of North Dakota, Turtle Mountain Band of Chippewa Indians of North Dakota

Dedam, Jean-Paul Henri, Dartmouth Medical School, Aroostook Band of Micmac Indians of Maine

Delgado, Jamael Theresa, University of North Dakota, Navajo Nation, Arizona, New Mexico & Utah

Dixon, Christian Brooke, University of Oklahoma, Cherokee Nation, Oklahoma

Dixon, Heather Renee, Black Hills State University, Oglala Sioux Tribe of the Pine Ridge Reservation, South Dakota

Dixon, Malia K, University of New Mexico, Navajo Nation, Arizona, New Mexico & Utah

Dominguez, Shonna Larae, Rocky Mountain College, Crow Tribe of Montana

Dowty, Raneva June, University of Washington, Confederated Tribes of the Warm Springs Reservation of Oregon

Duff, Christopher Michael, Southwestern Oklahoma State University, Cherokee Nation, Oklahoma

Duncan, Caleb Jerome, Northeastern State University, Cherokee Nation, Oklahoma

Dunning, Kristen Nicole, Northeastern State University, Muscogee (Creek) Nation, Oklahoma

Ekamrak, Joyce Anna, University of Alaska, Akiachak Native Community

Elmore, Amber Dawn, Meridian Technology Center, Chickasaw Nation, Oklahoma

Eschbacher, Sylvia Antoinette, University of Alaska, Native Village of Point Hope

Etsitty, Marlene J., University of New Mexico, Navajo Nation, Arizona, New Mexico & Utah

Evans, Amanda Lorna, Montana State University, Confederated Salish & Kootenai of the Flathead Reservation, Montana

Eversole, Maryn, University of New Mexico, Navajo Nation, Arizona, New Mexico & Utah

Fairbanks, Mary Elizabeth, University of Minnesota, Minnesota Chippewa Tribe, Minnesota

Falconer, Heidi Cambrie, Southwestern Oklahoma State University, Choctaw Nation of Oklahoma

Fischer, Monika Caroline, University of Arkansas at Fort Smith, Cherokee Nation, Oklahoma

Fisher, Jayson Mikel, University of New Mexico, Choctaw Nation of Oklahoma

Fishinghawk, Bobbi Genevieve, University of Kansas, Cherokee Nation, Oklahoma

Foote, Brittnee Irene, Bismarck State College, Turtle Mountain Band of Chippewa Indians of North Dakota

Fosseneuve, Christy Lynn, University of North Dakota, Turtle Mountain Band of Chippewa Indians of North Dakota

Fox, Juanita Mendoza F., Strayer University, Sisseton-Wahpeton Sioux Tribe of the Lake Traverse Reservation, South Dakota

Franklin, Richard Arnold, University of Missouri, Cherokee Nation, Oklahoma

Freeling, Katherine Jane, Oklahoma State University, Cherokee Nation, Oklahoma

Fuller, Racheal Nancy, University of Arizona, Navajo Nation, Arizona, New Mexico & Utah

Garcia, Alvin Joseph, Macalester College, Pueblo of Santo Domingo, New Mexico

Garnier, Arrow Wanahca Win, Ogalala Lakota College, Navajo Nation, Arizona, New Mexico & Utah

Gerry, Jon Michael, Harvard Medical School, Cheyenne River Sioux Tribe of the Cheyenne River Reservation, South Dakota

Giles, Erin Ayn, Southern College of Optometry, Cherokee Nation, Oklahoma

Gillies, Kenneth Jay, North Dakota State University, Three Affiliated Tribes of the Fort Berthold Reservation, North Dakota

Gishie, Elvintina Evonne, Northern Arizona University, Navajo Nation, Arizona, New Mexico & Utah

Gloshay, Janet Johnson, Gateway Community College, Navajo Nation, Arizona, New Mexico & Utah

Good, Tanya Michelle, Nebraska Methodist College, Red Lake Band of Chippewa Indians, Minnesota

Goodblanket, Minnie Peshlakai, University of Alaska, Cheyenne-Arapaho Tribes of Oklahoma

Gore, Nicole Charmaine, Arizona School of Dentistry, Crow Tribe of Montana

Gorman, Emmeline Paula, Northern Arizona University, Navajo Nation, Arizona, New Mexico & Utah

Gorman, Jack Gerald, University of California, Karuk Tribe of California

Graham, Gerritt Wren, University of Oklahoma, Chickasaw Nation, Oklahoma

Granbois, Rae Alison, Dakota State University, Turtle Mountain Band of Chippewa Indians of North Dakota

Groten, Clarence Aaron, University of New Mexico, Navajo Nation, Arizona, New Mexico & Utah

Guinn, Heather Elaine, Northeastern State University, Muscogee (Creek) Nation, Oklahoma

Gump, Trina Maxine, University of Alaska, Native Village of Hooper Bay

Hajicek, Jodi Lynn, University of North Dakota, Turtle Mountain Band of Chippewa Indians of North Dakota

Hall, Megan Sue, University of Oklahoma, Choctaw Nation of Oklahoma

Hall, Sheila Marie, Loyola College, White Earth Band of Chippewa Indians of Minnesota

Hamby, Kenneth Jerome, A.T. Still University of Health Sciences, Cherokee Nation, Oklahoma

Hammer, Sunny R., Indian Capital Technology Center, Muscogee (Creek) Nation, Oklahoma

Haney, Rebecca Belle, Carl Albert State College, Cherokee Nation, Oklahoma

Harjo, Regena Tai, East Central Oklahoma State University, Chickasaw Nation, Oklahoma

Harker, Erica Michelle, University of New Mexico, Zuni Tribe of the Zuni Reservation, New Mexico

Harlan, Erica Sue, Oklahoma State University, Muscogee (Creek) Nation, Oklahoma

Harp, Emma Beth, Northeastern State University, Cherokee Nation, Oklahoma

Harrison, Gilbert, University of Arizona, Navajo Nation, Arizona, New Mexico & Utah

Harvey, Melissa R., University of New Mexico, Navajo Nation, Arizona, New Mexico & Utah

Hawk, Sonny Skye, Northeastern State University, Standing Rock Sioux Tribe of North & South Dakota

Hayes-Coons, Jennifer Lynn, Harber School of Nursing, Cherokee Nation, Oklahoma

Heavilin, Molly Nanabah, Wellesley College, Navajo Nation, Arizona, New Mexico & Utah

Hendrex, Douglas Brian, University of North Dakota, Cherokee Nation, Oklahoma

Hicks, Tana Lee, Oklahoma Baptist University, Seminole Nation of Oklahoma

Hobbs, Patricia Louise, Portland State University, Karuk Tribe of California

Holiday (Yazzie), Charisse Lindsey, Arizona State University, Navajo Nation, Arizona, New Mexico & Utah

Holman, Colin Justin, University of Oklahoma, Chickasaw Nation, Oklahoma

Houle, Jay Powell, Montana State University, Sisseton-Wahpeton Sioux Tribe of the Lake Traverse Reservation, South Dakota

Howard, Cynthia Lupe, Mount St. Mary's College, Pueblo of Zia, New Mexico

Howard, Rachon Shaylynn, University of New Mexico, Navajo Nation, Arizona, New Mexico & Utah

Howell, Jean Gregory, University of Minnesota, Cherokee Nation, Oklahoma

Howell, Jesse Ray, University of Oklahoma, Choctaw Nation of Oklahoma

Huerth, Benjamin Walter, University of Vermont, Winnebago of Nebraska

Huskon, Philbert, Arizona State University, Navajo Nation, Arizona, New Mexico & Utah

James, Carissa Grayce, Grand Canyon University, Navajo Nation, Arizona, New Mexico & Utah

Jensen, Janelle Blake, University of Arizona, Navajo Nation, Arizona, New Mexico & Utah

Jim, Lawanda T., University of New Mexico, Navajo Nation, Arizona, New Mexico & Utah

Jimerson, Billye Rene, Bacone College, Muscogee (Creek) Nation, Oklahoma

Joe, Felma Marie, New Mexico Highlands University, Navajo Nation, Arizona, New Mexico & Utah

Joe, John, University of New Mexico, Navajo Nation, Arizona, New Mexico & Utah

Johnson, Brandon James, University of Minnesota, White Earth Band of Chippewa Indians of Minnesota

Johnston, Cara Leanne, Oklahoma State University, Cherokee Nation, Oklahoma

Jones, Jodi Michele, University of Oklahoma, Pawnee Nation of Oklahoma

Juneau, Rose Ann, University of Great Falls, Fort Belknap Indian Community of the Fort Belknap Reservation of Montana

Kaiser, Joshua Lee, Rogers State College, Cherokee Nation, Oklahoma

Kaiser, Megan Lynn, North Dakota State University, White Earth Band of Chippewa Indians of Minnesota

Kee, Tawna, TVI Community College, Navajo Nation, Arizona, New Mexico & Utah

Keel, Andrea Lynn, University of Oklahoma, Chickasaw Nation, Oklahoma

Keener, Brandy Michelle, Oklahoma State University, Cherokee Nation, Oklahoma

Keplin, Angela Ann, University of North Dakota, Turtle Mountain Band of Chippewa Indians of North Dakota

Keplin, Jessi Lee, Minot State University, Turtle Mountain Band of Chippewa Indians of North Dakota

King, Robert Ryan, University of Oklahoma, Choctaw Nation of Oklahoma

Kirk, Brant Evan, Oregon Institute of Technology, Klamath Indian Tribe of Oregon

Knight, Laura Ulogilv, Northeastern State University, Choctaw Nation of Oklahoma

Knudson, Nicolette Jean, University of Washington, Sisseton-Wahpeton Sioux Tribe of the Lake Traverse Reservation, South Dakota

Lafromboise, Sandy Marie, Minot State College, Turtle Mountain Band of Chippewa Indians of North Dakota

Landers, Joseph Henry, University of Oklahoma, Muscogee (Creek) Nation, Oklahoma

Langan, Ashley Winona, University of North Dakota, Turtle Mountain Band of Chippewa Indians of North Dakota

Larocque, Angie Lynn, University of North Dakota, Turtle Mountain Band of Chippewa Indians of North Dakota

Larson, Shelley Lynn, University of Alaska Anchorage, Central Council of Tlingit & Haida Indian Tribes

Lashley, Nathan James, Rosalind Franklin University, Cherokee Nation, Oklahoma

Lauderdale, Lisa Ann, University of Oklahoma, Kickapoo Tribe of Oklahoma

Laurence, Kami Lynn, University of New Mexico, Navajo Nation, Arizona, New Mexico & Utah

Lemas, Dominick Joseph, University of Vermont, Citizen Potawatomi Nation, Oklahoma

Leslie (Lay), Pamela Christine, William Howard Taft University, Muscogee (Creek) Nation, Oklahoma

Levi, Angela Marie, Arizona School of Health Sciences, Cherokee Nation, Oklahoma

Livers, Leanne Danielle, Northeastern State University, Cherokee Nation, Oklahoma

Long, Christina Marie, South Dakota State University, Lower Brule Sioux Tribe of the Lower Brule Reservation, South Dakota

Longhurst, Claire Frances, University of North Dakota, Navajo Nation, Arizona, New Mexico & Utah

Lopez, Matthew Adam, Arizona State University, Walker River Paiute Tribe of the Walker River Reservation, Nevada

Lowery, Jodie Roberta, Winthrop University, Lumbee Tribe of North Carolina

Luedecke, James Anthony, University of Arkansas, Cherokee Nation, Oklahoma

Lujan, Erica Leanne, University of New Mexico, Pueblo of Isleta, New Mexico

Madden, Donna Rose, Florida Hospital College of Health Sciences, Choctaw Nation of Oklahoma

Maddox, Kevin Wayne, Lecom Bradenton University, Muscogee (Creek) Nation, Oklahoma

Maloney, Violet Spring, Northern Arizona University, Navajo Nation, Arizona, New Mexico & Utah

Mannila, Anthony Lee, The College of St. Scholastica, Bad River Band of the Lake Superior Tribe of Chippewa Indians of the Bad River Reservation, Wisconsin

Manning, Tessa Leigh, University of Texas Southwestern Medical School, Chickasaw Nation, Oklahoma

Martin, Jamie Anne, Colorado State University, Makah Indian Tribe of the Makah Indian Reservation, Washington

Martin-Tiller, Linda Christine, University of California, Confederated Tribes of the Siletz Reservation, Oregon

Martinez, Alicia Rose, University of North Dakota, Yurok Tribe of the Yurok Reservation, California

Martinez, Jolynn, University of New Mexico, Navajo Nation, Arizona, New Mexico & Utah

Matlock, Jazmin, Oklahoma State University, Cherokee Nation, Oklahoma

Matt, Georgia Lee, Utah State University, Blackfeet Tribe of the Blackfeet Indian Reservation of Montana

Mayes, Nicole Rachel, Oklahoma State University, Cherokee Nation, Oklahoma

McCorkle, Cody W., University of Arkansas, Citizen Potawatomi Nation, Oklahoma

McGeshick, Cole David, University of Washington, Sokaogon Chippewa Community, Wisconsin

McGraw, Crystal Annette, University of Minnesota, Duluth, Sisseton-Wahpeton Sioux Tribe of the Lake Traverse Reservation, South Dakota

McKerry, Jason Amel, University of Arizona, Navajo Nation, Arizona, New Mexico & Utah

McLemore, Dustin James, University of Oklahoma, Caddo Indian Tribe of Oklahoma

McNeal, Rebecca Lynne, University of Oklahoma, Choctaw Nation of Oklahoma

McPherson, Patricia Lee Ann, University of Washington, Quapaw Tribe of Indians, Oklahoma

Meierotto, Chelsie Leigh, University of Minnesota, Red Cliff Band of Lake Superior of Chippewa Indians of Wisconsin

Miller, Carl Eugene, Rosalind Franklin University, Muscogee (Creek) Nation, Oklahoma

Miller, Jacklyn Jean, University of North Dakota, Oglala Sioux Tribe of the Pine Ridge Reservation, South Dakota

Miner, Diane Nicole, Community College of Rhode Island, Narragansett Indian Tribe of Rhode Island

Moalemi, Nooshin Megan, Touro University, Navajo Nation, Arizona, New Mexico & Utah

Mogelnicki, Lisa Suzanne, Des Moines University, Cherokee Nation, Oklahoma

Monteau, Maurice James, United Tribes Technical College, Sisseton-Wahpeton Sioux Tribe of the Lake Traverse Reservation, South Dakota

Moran, Bradley Alan, University of Montana, Turtle Mountain Band of Chippewa Indians of North Dakota

Morin, Georgia Maria, University of North Dakota, Turtle Mountain Band of Chippewa Indians of North Dakota

Morin, Rebecca Inez, Central Washington University, Arapahoe Tribe of the Wind River Reservation, Wyoming

Morris, Winifred, University of New Mexico, Navajo Nation, Arizona, New Mexico & Utah

Morrison, Clint Justin, University of Oklahoma, Choctaw Nation of Oklahoma

Murray, Sara Emily, University of Oklahoma, Choctaw Nation of Oklahoma

Nanez, Jennifer Sims, New Mexico Highlands University, Pueblo of Acoma, New Mexico

Nelson, Celeste Irene, Dartmouth Medical School, Ely Shoshone Tribe of Nevada

Nicholson, Reuben Samuel, Western New Mexico University, Nome Eskimo Community

Nidiffer-Shelor, Amber Lynn, University of Oklahoma, Cherokee Nation, Oklahoma

Nilchee, Gregory Hashke Yitahoogal, University of New Mexico, Navajo Nation, Arizona, New Mexico & Utah

Nimsey, Dallas Micah, Southwestern Oklahoma State University, Kiowa Indian Tribe of Oklahoma

Nix, Micah Douglass, Oklahoma State University, Cherokee Nation, Oklahoma

Noisy Hawk, Lyle James, University of Minnesota, Oglala Sioux Tribe of the Pine Ridge Reservation, South Dakota

Norris, Valerie, University of Minnesota, Red Lake Band of Chippewa Indians, Minnesota

O'Brien, Nancy Sue, Rio Salado College, Cherokee Nation, Oklahoma

O'Connell, Meghan Curry, University of Washington, Cherokee Nation, Oklahoma

O'Daye, Deena May, Grand Canyon College, Reno-Sparks Indian Colony, Nevada

Old Coyote, Edwina Mae, University of North Dakota, Crow Tribe of Montana

Oldacre, Angela Marie, University of Oklahoma, Cherokee Nation, Oklahoma

O'Leary, Veronica Anne, University of North Carolina, Cheyenne River Sioux Tribe of the Cheyenne River Reservation, South Dakota

Osborn, Kasie D., Northeastern State University, Cherokee Nation, Oklahoma

Page, Tyler Stephen, University of Oklahoma, Cherokee Nation, Oklahoma

Palacol, Christie Kahikuonalni, Touro University, Comanche Nation, Oklahoma

Palmer, Jason Eric, Spokane Falls Community College, Confederate Tribes of the Colville Reservation, Washington

Pascoe, Vannessa Hochhalter, New York University, Oglala Sioux Tribe of the Pine Ridge Reservation, South Dakota

Patton, Mary, Murray State College, Chickasaw Nation, Oklahoma

Paul, Kimberly Lynn, Blackfeet Community College, Blackfeet Tribe of the Blackfeet Indian Reservation of Montana

Peak, Stephanie Gail, Oklahoma Wesleyan University, Cherokee Nation, Oklahoma

Pearish, Loni Dawn, Northeastern State University, Cherokee Nation, Oklahoma

Pearman, Zachary Brain, University of Wyoming, Cheyenne River Sioux Tribe of the Cheyenne River Reservation, South Dakota

Peltier, Luke Joseph, North Dakota State University, Turtle Mountain Band of Chippewa Indians of North Dakota

Penner, Amanda Victoria, University of Oklahoma, Chicksaw Nation, Oklahoma

Pete, Dornell, Yale University, Navajo Nation, Arizona, New Mexico & Utah

Peterman, Sawyer, University of New Mexico, Navajo Nation, Arizona, New Mexico & Utah

Petersen, Heather Rae, University of South Dakota, Oglala Sioux Tribe of the Pine Ridge Reservation, South Dakota

Phelps, Nichole Marie, Northeastern State University, Cherokee Nation, Oklahoma

Phillips, Lydia Elaine, Southeastern Oklahoma State University, Choctaw Nation of Oklahoma

Pike, Breanna Janelle, University of Arizona, Muscogee (Creek) Nation, Oklahoma

Pletnikoff, Elise Marie, Carroll College, Alaska Native

Pond, Leland James, Arizona School of Denistry, Assiniboine & Sioux Tribes of the Fort Peck Indian Reservation, Montana

Power, Jacob Alan, Midwestern University, Cherokee Nation, Oklahoma

Preston, Drew Alan, University of California, Santa Barbara, Navajo Nation, Arizona, New Mexico & Utah

Price, Aaron Joseph, University of New Mexico, Navajo Nation, Arizona, New Mexico & Utah

Puhuyaoma, Tammy Kae, Mesa Community College, Hopi Tribe of Arizona

Putnam, Sara Jane, College of Menonimee Nation, Stockbridge Munsee Community, Wisconsin

Pyatskowit, Sarah Erin, Bellin College, Menominee Indian Tribe of Wisconsin

Ragsdale, Allison Lynn, Evangel University, Cherokee Nation, Oklahoma

Ramone, Bernadette Nina, University of New Mexico, Navajo Nation, Arizona, New Mexico & Utah

Rasor, Joseph James, Midwestern University, Navajo Nation, Arizona, New Mexico & Utah

Razote, Antoinette Jo, Eastern Washington University, Sisseton-Wahpeton Sioux Tribe of the Lake Traverse Reservation, South Dakota

Redcorn, Moira Ambrose, Oklahoma State University, Osage Tribe, Oklahoma

Reising, Kotanne Tenas, Medical College of Wisconsin, Menominee Indian Tribe of Wisconsin

Renfrow, Miranda Kirstin, Oklahoma State University, Choctaw Nation of Oklahoma

Rice, Lily A., University of North Dakota, Prairie Band of Potawatomi Nation, Kansas

Richards, Spencer L., University of North Dakota, Oglala Sioux Tribe of the Pine Ridge Reservation, South Dakota

Richardson, Charlene Martha, South Dakota State University, Oglala Sioux Tribe of the Pine Ridge Reservation, South Dakota

Riffe, Evelyn Laura, University of Alaska, Native Village of Hooper Bay

Riggs, Jaclyn Nichole, Southern Illinois University, Cheyenne-Arapaho Tribes of Oklahoma

Ritter, Tara Jean, Oklahoma Wesleyan University, Cherokee Nation, Oklahoma

Robinson, Charlene, University of Arizona, Navajo Nation, Arizona, New Mexico & Utah

Rodriguez, Suzanne-Linette, Eastern Washington University, Pueblo of Isleta, New Mexico

Rogers, Brandon Scott, University of Oklahoma, Cherokee Nation, Oklahoma

Rogers, Kalen Jared, University of Oklahoma, Chickasaw Nation, Oklahoma

Romero, Tanya Sanka, Paradise Valley Community College, Tohono O'odham Nation of Arizona

Romero, Teresa Beth, University of North Dakota, Turtle Mountain Band of Chippewa Indians of North Dakota

Roselius, Kassi, Southern Nazarene University, Citizen Potawatomi Nation, Oklahoma

Ross, Matthew, Northeastern State University, Cherokee Nation, Oklahoma

Rucker-Whytal, Amanda Anne, Kansas City University of Medicine & Biosciences, Osage Tribe, Oklahoma

Salois-Albert, Shaunda Marie, Walla Walla College, Confederated Salish & Kootenai of the Flathead Reservation, Montana

Sanderson, Kendra Marie, University of Arizona, Navajo Nation, Arizona, New Mexico & Utah

Schmidt, Erin Michelle, University of Oklahoma, Muscogee (Creek) Nation, Oklahoma

Schoemann, Lindsey Tanner, University of Oklahoma, Citizen Potawatomi Nation, Oklahoma

Scott, Jessica Robin, University of Washington, Central Council of Tlingit & Haida Indian Tribes

Scott, Margaret Rochan, University of North Dakota, Spokane Tribe of the Spokane Reservation, Washington

Secody, Farrah Lisa, Arizona State University, Navajo Nation, Arizona, New Mexico & Utah

Sennett, Floy Lumae, Oklahoma Wesleyan University, Cherokee Nation, Oklahoma

Shadaram, Sara Roya, University of Oklahoma, Cheyenne-Arapaho Tribes of Oklahoma

Shangin, Nicole Danielle, Seattle Pacific University, Ivanoff Bay Village

Shea-Walters, Tamara Renee, Southwest Missouri State University, Alaska Native

Shepard, Cristopher Allan Joseph, University of Nevada, Santee Sioux Tribe of the Santee Reservation of Nebraska

Shipley-Skaggs, Amanda Marie, Southwestern Oklahoma State University, Cherokee Nation, Oklahoma

Sieler, Sean Richard, South Dakota State University, Cheyenne River Sioux Tribe of the Cheyenne River Reservation, South Dakota

Simmons, Joseph Nicholas, Campbell University, Coharie Indian Tribe of North Carolina

Sixkiller, Cheryl Lynn, University of Oklahoma, Cherokee Nation, Oklahoma

Skeets, Jennifer A., University of New Mexico, Navajo Nation, Arizona, New Mexico & Utah

Small, Shiloh Nicole, University of North Dakota, Northern Cheyenne Tribe of the Northern Cheyenne Indian Reservation, Montana

Smith, Lavonda, University of New Mexico, Navajo Nation, Arizona, New Mexico & Utah

Smoke, Leah Ruth, Northern Arizona University, St. Regis Band of Mohawk Indians of New York

Snell, Deborah Diane, Northweastern State University, Cherokee Nation, Oklahoma

Soliz, Narcisso, Southwestern Oklahoma State University, Rosebud Sioux Tribe of the Rosebud Indian Reservation, South Dakota

Southerland, Aaron Chase, University of Oklahoma, Choctaw Nation of Oklahoma

Spencer, Anne P, University of New Mexico, Navajo Nation, Arizona, New Mexico & Utah

Stabnow, Wendy Marlene, Ogalala Lakota College, Oglala Sioux Tribe of the Pine Ridge Reservation, South Dakota

Stevens, Erika S., Central Washington University, Native Village of Eagle

Stickler, Desiree Nadine, University of Alaska, Central Council of Tlingit & Haida Indian Tribes

Stimson, Danielle Rain, Eastern Washington University, Blackfeet Tribe of the Blackfeet Indian Reservation of Montana

Stitzer, Michael Eric, Mount Sinai School of Medicine, Rancheria of Maidu Indians of California

Stone, Jennifer June, University of Oklahoma, Choctaw Nation of Oklahoma

Strong, Charles Joseph, University of Texas, Chickasaw Nation, Oklahoma

Sun Rhodes, Neil Altair, Oregon Health Sciences University, Arapahoe Tribe of the Wind River Reservation, Wyoming

Sweeney, Michael Aaron, Case Western Reserve University, Choctaw Nation of Oklahoma

Syverson, Ashleigh Marie, North Dakota State University, White Earth Band of Chippewa Indians of Minnesota

Tapp, Jamie Lynn, Southwestern Oklahoma State University, Chickasaw Nation, Oklahoma

Tarango, Elena Marveya, Western College of Health Science, Ione Band of Miwok Indians of California

Tarbell, Stephen Charles, University of Buffalo, St. Regis Band of Mohawk Indians of New York

Taylor, Jennifer Elise, New York University, Pit River Tribe

Taylor, Kevin Eric, Northeastern State University, Kaw Nation, Oklahoma

Taylor, Timothy Michael, Missouri Southern State College, Citizen Potawatomi Nation, Oklahoma

Teller, Terry Lee, University of New Mexico, Navajo Nation, Arizona, New Mexico & Utah

Thomas, Jacob Frederick, Concordia College, Turtle Mountain Band of Chippewa Indians of North Dakota

Thomas, Levon Totsohnii, Massachusetts Institute of Technology, Navajo Nation, Arizona, New Mexico & Utah

Thompson, Weston Dewey, Southwestern Oklahoma State University, Cherokee Nation, Oklahoma

Tincher, Amber Nicoler, University of North Dakota, Assiniboine & Sioux Tribes of the Fort Peck Indian Reservation, Montana

Toadlena, Evelyn, Western New Mexico University, Navajo Nation, Arizona, New Mexico & Utah

Todachine, Katie Bah, University of New Mexico, Navajo Nation, Arizona, New Mexico & Utah

Todicheeney, Sharlene Lynn, University of New Mexico, Navajo Nation, Arizona, New Mexico & Utah

Tom, Jennifer Michell, Hunter College, Choctaw Nation of Oklahoma

Tom, Valora Jean, Texas Women's University, Navajo Nation, Arizona, New Mexico & Utah

Tonasket, Joleen Michele, Eastern Washington University, Spokane Tribe of the Spokane Reservation, Washington

Townsend, Travis J., University of New Mexico, Pueblo of Acoma, New Mexico

Trammel, Errin Michelle, Bacone College, Cherokee Nation, Oklahoma

Tsinigini, Alberta, University of New Mexico, Navajo Nation, Arizona, New Mexico & Utah

Tsosie, Carol Renee, Phoenix College, Navajo Nation, Arizona, New Mexico & Utah

Turney, Jarett Brandon, Marquette University, Cherokee Nation, Oklahoma

Tutt, Jaclyn Cindy, Phoenix College, Navajo Nation, Arizona, New Mexico & Utah

Tveit, Adrienne Hilda, Washington State University, Central Council of Tlingit & Haida Indian Tribes

Uhl, Sarah Elizabeth, Baylor University, Cherokee Nation, Oklahoma

Vitz, Kelly Anne, George Washington University, Hopi Tribe of Arizona

Walker, Jonathan Bayless, Oklahoma State University, Choctaw Nation of Oklahoma

Walker, Lindsay Allison, University of North Carolina, Eastern Band of Cherokee Indians of North Carolina

Walker, Marshall Austin, University of Oklahoma, Cherokee Nation, Oklahoma

Walker-Charles, Cheryl Lynette, University of New Mexico, Navajo Nation, Arizona, New Mexico & Utah

Wallace, Becky Lee, College of St. Catherine, Winnebago or Nebraska

Wanna, Jessica Jean, Minnesota State University, Sisseton-Wahpeton Sioux Tribe of the Lake Traverse Reservation, South Dakota

Ward, Jennifer Elaine, Kirksville College of Osteopathic Medicine, Cherokee Nation, Oklahoma

Ward, Micah N., University of Oklahoma, Citizen Potawatomi Nation, Oklahoma

Warlick, Katie Larue, University of Oklahoma, Cherokee Nation, Oklahoma

Watts, Candace Summer, Hampton University, Navajo Nation, Arizona, New Mexico & Utah

Weaver, Tony Lee, University of Mobile, Mowa Band of Choctaw Indians of South Alabama

Wells, Natasha Nicole, Colorado State University, Standing Rock Sioux Tribe of North & South Dakota

Werner, Gwenlynn Laine, Arizona School of Dentistry, Navajo Nation, Arizona, New Mexico & Utah

West, Latoya Ann, University of New Mexico, Navajo Nation, Arizona, New Mexico & Utah

White, Christine Anne, University of Washington, Sitka Tribe of Alaska

White, Jennifer Lorraine, Oral Roberts University, Cherokee Nation, Oklahoma

Whitehair, Orlantha, University of Arizona, Navajo Nation, Arizona, New Mexico & Utah

Whitehair, Robbie Gayle, University of New Mexico, Navajo Nation, Arizona, New Mexico & Utah

Willey, Matthew Hallett, East Central University, Muscogee (Creek) Nation, Oklahoma

Wilkerson, Thaddus Donavan, University of New Mexico, Navajo Nation, Arizona, New Mexico & Utah

Williams, Alice, Northland Pioneer College, Navajo Nation, Arizona, New Mexico & Utah

Williams, Clarrisa, University of Arizona, Navajo Nation, Arizona, New Mexico & Utah

Williams, Jennifer Brooke, Rice University, Choctaw Nation of Oklahoma

Williams, Michelle Ann, New Mexico Highlands University, Navajo Nation, Arizona, New Mexico & Utah

Williams, Scott Bradley, University of Iowa, Cherokee Nation, Oklahoma

Williams-Burns, Amanda Kate, Southwestern Oklahoma State University, Muscogee (Creek) Nation, Oklahoma

Willis, Wade Kennedy, University of Oklahoma, Cherokee Nation, Oklahoma

Wilson, Hailey Lafrance, Lewis and Clark State College, Nez Perce Tribe of Idaho

Wilson, Kelli Rae Lee, University of Central Oklahoma, Seminole Nation of Oklahoma

Wilson, Lowery Elizabeth, University of Oklahoma, Cherokee Nation, Oklahoma

Wilson, Patricia Kay, University of New Mexico, Navajo Nation, Arizona, New Mexico & Utah

Wilson, Sharon Jean, Northern Arizona University, Navajo Nation, Arizona, New Mexico & Utah

Wilson, Winter Marie, University of North Dakota, Death Valley Timbi-Sha Shoshone Band of California

Wind, Amber Rose, Seminole State College, Seminole Nation of Oklahoma

Winship, Venita Lynn, East Central University, Choctaw Nation of Oklahoma

Winton, Lindsay Dallas, University of Oklahoma, Cherokee Nation, Oklahoma

Woodard, David Rush, University of Missouri, Osage Tribe, Oklahoma

Woods, Tabatha Victoria, Northeastern State University, Cherokee Nation, Oklahoma

Woodward, Amber Gail, University of Montana, Blackfeet Tribe of the Blackfeet Indian Reservation of Montana

Woodward, Tiana Amanda, University of Oklahoma, Muscogee (Creek) Nation, Oklahoma

Wyczynski, Cheryl Leann, Labette Community College, Quapaw Tribe of Indians, Oklahoma

Yazzie, Celia Rose, University of New Mexico, Navajo Nation, Arizona, New Mexico & Utah

Yazzie, Delvin, University of Arizona, Navajo Nation, Arizona, New Mexico & Utah

Yazzie, Maria, University of New Mexico, Navajo Nation, Arizona, New Mexico & Utah

Yazzie, Shelia Rae, University of Utah, Navajo Nation, Arizona, New Mexico & Utah

Yazzie, Tomantha, Northern Arizona University, Navajo Nation, Arizona, New Mexico & Utah

Yepa, Kristyn Nazarita, University of New Mexico, Pueblo of Jemez, New Mexico

Young, Naomi J., University of Arizona, Navajo Nation, Arizona, New Mexico & Utah

Zackery, Kathryn Sue, Oklahoma State University, Muscogee (Creek) Nation, Oklahoma

Zunie, Kimberly Cheryl, University of Arizona, Zuni Tribe of the Zuni Reservation, New Mexico

Zupan, Sherie Lee, University of North Dakota, Turtle Mountain Band of Chippewa Indians of North Dakota

FOR FURTHER INFORMATION CONTACT: The Indian Health Service Scholarship Branch, 801 Thompson Avenue, Suite 120, Rockville, MD 20852, Telephone: (301) 443-6197, Fax: (301) 443-6048.

Dated: January 11, 2006.
Charles W. Grim,
Assistant Surgeon General, Director, Indian Health Service.

[FR Doc. 06-453 Filed 1-18-06; 8:45 am]

BILLING CODE 4165-16-M